Title 3—

The President

Proclamation 8497 of April 12, 2010

Honoring the Victims of the Montcoal, West Virginia, Mine Disaster

By the President of the United States of America

A Proclamation

As a mark of respect for the memory of those who perished in the mine explosion in Montcoal, West Virginia, I hereby order, by the authority vested in me by the Constitution and the laws of the United States of America, that the flag of the United States shall be flown at half-staff at all public buildings and grounds and at all military facilities and naval stations of the Federal Government in the State of West Virginia until sunset on April 18, 2010.

IN WITNESS WHEREOF, I have hereunto set my hand this twelfth day of April, in the year of our Lord two thousand ten, and of the Independence of the United States of America the two hundred and thirty-fourth.

[FR Doc. 2010-8864

Filed 4-14-10; 11:15 am]

Billing code 3195-W0-P